DEPARTMENT OF HEALTH AND HUMAN SERVICES

Administration for Children and Families

Office of Refugee Resettlement; Program Announcement No. CFDA 93.576; Discretionary Funds for Refugee Family Enrichment Projects

AGENCY: Office of Refugee Resettlement (ORR), ACF, HHS.

ACTION: Request for applications to conduct projects to strengthen refugee families through services promoting healthy marriages and the adjustment of refugee elderly and refugee youth to changing family dynamics.

SUMMARY: ORR invites the submission of applications for assistance that supports activities in three categories aimed at strengthening refugee family life by promoting healthy marriages for refugee couples and support services for adjustment of refugee elderly and refugee youth.¹

¹ Eligibility for refugee social services includes: (1) refugees; (2) asylees; (3) Cuban and Haitian entrants; (4) certain Amerasians from Vietnam, including U.S. citizens; (5) victims of a severe form of trafficking (see 45 CFR 400.43 and ORR State Letter #01-13 http://www.acf.dhhs.gov/programs/orr/policy/sl01-13.htm as modified by ORR State Letter 02-01 http://www.acf.dhhs.gov/programs/orr/policy/sl02-01.htm on trafficking victims). For convenience, the term “refugee” is used in this notice to encompass all such eligible persons.

DATES: The closing date for submission of applications is July 10, 2003. ACF will acknowledge receipt of applications. Mailed applications postmarked after the closing date will be classified as late.

Deadline: Mailed applications shall be considered as meeting an announced deadline if they are either received on or before the deadline date or sent on or before the deadline date and received by ACF in time for the independent review to: U.S. Department of Health and Human Services, Administration for Children and Families, Office of Grants Management, Division of Discretionary Grants, Attention: Daphne Weeden, Grants Management Officer, 370 L'Enfant Promenade SW., 4th Floor West, Washington, DC 20447. See Part IV of this announcement for more information on submitting applications.

Announcement Availability: The program announcement and the application materials are available from Irving Jones, Office of Refugee Resettlement (ORR), 370 L'Enfant Promenade, SW., 8th Fl., Washington, DC 20447 and from the ORR Web site at: http://www.acf.hhs.gov/programs/orr.

FOR FURTHER INFORMATION CONTACT: For all categories, contact Irving Jones, Division of Community Resettlement (DCR), ORR, Administration for Children and Families (ACF), (202) 401-6533; Fax (202) 401-0981; E-mail: ijones@acf.hhs.gov or Daphne Weeden, Office of Grants Management (OGM), (ACF), (202) 401-4577; E-mail: dweeden@acf.hhs.gov.

SUPPLEMENTARY INFORMATION: This program announcement consists of four parts:

Part I: The Program—legislative authority, funding availability, CFDA Number, eligible applicants, project and budget periods, background, program purpose and objectives, allowable activities, non-allowable activities, and review criteria.

Part II: The Review Process—intergovernmental review, initial ACF screening, and competitive review.

Part III: The Application—application forms, application submission and deadlines, certifications, assurances, and disclosure required for non-construction programs, general instructions for preparing a full project description, and length of application.

Part IV: Post-award—applicable regulations, treatment of program income, and reporting requirements.

Paperwork Reduction Act of 1995 (Pub. L. 104-13): The public reporting burden for this collection of information, for preparing the application, is estimated to average 15 hours per response, including the time for reviewing instructions, gathering and maintaining the data needed, and reviewing the collection of information. Information collection is included in the following program announcement: OMB Approval No. 0970-0139, ACF Uniform Project Description (UPD) attached as Appendix A, which expires 12/30/03. An agency may not conduct or sponsor, and a person is not required to respond to, a collection of information unless it displays a currently valid OMB control number.

Part I: The Program

Legislative Authority

This program is authorized by section 412(c)(1)(A) of the Immigration and Nationality Act (INA) (8 U.S.C. 1522 (c)(1)(A), as amended, the Director of ORR recognizes that refugees have specific needs for services that are authorized under section 412(c)(1)(A) iii, as follows:

to make grants to, and enter into contracts with, public or private non-profit agencies for projects specifically designed—(i) to assist refugees in obtaining the skills which are necessary for economic self-sufficiency, including projects for job training, employment services, day care, professional refresher training, and other recertification services; (ii) to provide training in English where necessary (regardless of whether the refugees are employed or receiving cash or other assistance); and (iii) to provide where specific needs have been shown and recognized by the Director, health (including mental health) services, social services, educational and other services.

Funding Availability

This program announcement governs the availability of, and award procedures for, the Refugee Family Enrichment Program, which will be funded using FY 2003 discretionary social service funds.

Category 1—Refugee Marriage Enrichment Projects through one cooperative agreement for approximately $1 million to one public or private non-profit agency with extensive knowledge of and comprehensive experience in working with refugees through reception and placement services and ongoing resettlement activities.

Category 2—Refugee Marriage Enrichment Projects through two to four cooperative agreements of approximately $400,000-$750,000 each to two to four public or private non-profit agencies with extensive knowledge of, and comprehensive experience in, working with, refugee community-based organizations.

Category 3—Refugee Family Enrichment Projects for Elderly and Youth through an estimated twenty grants ranging from $75,000 to $100,000 each to faith-based or community organizations and public agencies.

CFDA Number—93.576.

Eligible Applicants

Eligible applicants for these funds include public or private non-profit agencies, including faith-based and community organizations and public agencies. Applicants in all three categories must demonstrate, in detail, their relationship to the refugee communities they seek to serve and how those communities will participate in the proposed services. Also, applicants to category 1 and category 2 of this announcement should demonstrate their knowledge of and relationship to family enrichment activities.

Any non-profit organization submitting an application must submit proof of its non-profit status at the time of submission. The non-profit agency can accomplish this by providing a copy of the applicant's listing in the Internal Revenue Service's (IRS) most recent list of tax-exempt organizations described in Section 501(c)(3) of the IRS code, or by providing a copy of the currently valid IRS tax exemption certificate, or by providing a copy of the articles of incorporation bearing the seal of the State in which the corporation or association is domiciled, or by providing a certified copy of the organization's certificate of incorporation or similar document that clearly establishes non-profit status, or any of the items above for a State or national parent organization and a statement signed by the parent organization that the applicant organization is a local non-profit affiliate. Private, nonprofit organizations are encouraged to submit with their applications the optional survey located under “Grant Manuals & Forms” at http://www.acf.hhs.gov/programs/ofs/forms.htm.

Project and Budget Periods

This announcement is inviting applications for project periods up to three years. Awards, on a competitive basis, will be for a one-year budget period. Applications for continuation grants funded under these awards beyond the one-year budget period but within the three year project period will be entertained in subsequent years on a noncompetitive basis, subject to availability of funds, satisfactory progress of the grantee and a determination that continued funding would be in the best interest of the Government. No matching or cost sharing is required.

Background

The Administration for Children and Families (ACF) is currently supporting several initiatives that promote and encourage healthy marriages and strengthen families. This program announcement reflects ORR's participation in these initiatives as they relate to refugee populations. The cultures of most refugee populations are built upon successful and stable family life. This strength is worthy of preservation and ORR seeks, through this announcement, to support activities toward that end. ORR believes that refugee couples face unique difficulties because of their flight from persecution and long periods of insecurity and that marriage education is a social service that can help refugees cope with these difficulties. ORR also believes that there are benefits to marriage that extend to children, adults and to all society. Thus ORR is committed to promoting policies and programs that help strengthen marriage as an institution and help refugee parents raise their children in positive and healthy environments.

Many refugee families have endured persecution or torture, trauma, abrupt flight from war, and separation from, or death of, friends and family members. Furthermore, the relationships in refugee families may become strained before arrival because of suffering and deprivation endemic to the refugee condition. Refugees in the U.S. face many challenges. The pressures of their new American environment may weaken the strong, positive family relationships that refugees have brought with them to the United States.

Family relationships may undergo strain and transformation when refugees resettle in the U.S. Strong authoritarian and sometimes patriarchal family structures may provoke conflicts when members take on new roles as they adapt to American culture. For example, school/parent relationships may differ from those in their home countries and may produce miscommunication and tension; refugee parents may have concerns or object to the range of freedom American youth are afforded; and the physical disciplinary practices between a husband and wife or between parents and children may differ from what is the norm or legal in the U.S. The low wages of entry-level jobs may force both adults to work outside the home, thereby disrupting traditional roles. Typically, low incomes force refugee households to locate in neighborhoods with high crime rates. Poor public transportation adds to time spent away from family members and complicates efforts to access services and participate in community activities. The resulting strain from these difficulties may damage refugee marriages, families and communities.

Marriage education can help refugee couples strengthen and adjust relationship skills and help them cope with the difficulties of their new American environment with the result of improving the quality of family life. Along with the skills that enable couples to communicate more effectively, manage conflict and work together as a team, marriage education can also teach the benefits that can be obtained from identifying future challenges in their relationships so that these challenges can be successfully negotiated when they arise.

Research reveals that the benefits of healthy marriages are particularly beneficial for children. On average, children raised by parents in healthy marriages are less likely to fail at school, suffer an emotional or behavioral problem requiring psychiatric treatment, be victims of child abuse and neglect, get into trouble with the law, use illicit drugs, smoke cigarettes, abuse alcohol, engage in early and promiscuous sexual activity, grow up in poverty or attempt suicide. On average, children raised by parents in healthy marriages are more likely to have a higher sense of self-esteem, form healthy marriages when they marry, attend college and are physically healthier.

In summary, ORR seeks to use this announcement to provide opportunities for refugees to strengthen marital and parenting skills within healthy and supportive relationships. ORR also seeks to expand understanding of the refugees' marriage and family difficulties in the resettlement experience and the factors that contribute to successfully meeting the challenges to the marriage relationship. Despite difficult hurdles such as trauma, cultural adjustment and low wage jobs, refugee families are resilient. Once in the U.S., most envision a bright future for themselves and their children. If the issues faced by refugee families are addressed early through marriage education, the problems they encounter may be reduced or prevented and refugee families can achieve the bright future they seek.

Other Vulnerable Refugee Family Members: Elderly and Youth

ORR is also interested in programs that support services for the elderly and youth, who may be the more vulnerable family members. Refugee elderly and youth have also experienced or witnessed persecution. They also face hardships while resettling and pose unique challenges to their families, communities and the agencies that seek to serve them.

Older refugees face various issues that make them particularly vulnerable: chronic health and emotional problems stemming from the conditions of refugee flight; family loss or separation; an inability to advocate for themselves because of cultural, linguistic, or educational barriers; limited access to appropriate health and social service agencies; limited income due to lack of work history; and barriers to meeting the requirements for naturalization. Many older refugees in the United States, particularly women, live in difficult circumstances in which they may live alone without a caregiver, have low incomes, or may be abused, neglected or exploited. Additionally, some elderly refugees have lost Supplementary Security Income and Medicaid due to expiration of eligibility.

Refugee youth also confront a number of challenges as they integrate into American society. Because youth usually adapt more quickly to their new surroundings than adult refugees, relationships with parents often undergo stress and change. Youth often learn English more quickly and become translators for their parents. This shifts power to the young, disrupting traditional relationships within the family. Refugee youth often face problems in the United States that did not exist in their home countries, depriving them of the wisdom and experience of their parents who never dealt with these problems. Youth also face dilemmas surrounding relationships with the opposite sex, as male/female relationships in the U.S. may differ significantly from those of their home country. In addition, the stress of working while attending school, along with conflicts with students, teachers and school administrators over conduct, dress or diet may impede success at school. Refugee youth may also reject their home culture and desire acceptance from peers in the U.S. This desire for acceptance can lead to discipline problems in school and at home and to problems with local law enforcement agencies.

Through category 3 of this announcement ORR seeks to fund programs that address the particular challenges faced by refugee elderly and youth so that they can meet the challenges in their resettlement experiences.

Category 1—Marriage Enrichment Projects

Category 1 Purposes and Objectives

ORR intends to award funds, under one cooperative agreement, to a public or private non-profit agency with extensive knowledge of and comprehensive experience in working with refugees through (1) reception and placement services and (2) ongoing resettlement activities. Through this cooperative agreement, the grantee will meet the needs of a wide variety of ethnicities among recently arrived refugee populations. To reach these populations and to ensure that the services provided are culturally and linguistically appropriate, the applicant should have local offices or affiliated organizations with an ongoing relationship to, and the trust and respect of each group of refugees. The family enrichment activities proposed in this announcement may be outside the experience of many refugees and may be difficult to implement without a well-established relationship between the refugees and the applicant.

Applicants should describe their efforts to create collaborations, with both national and local marriage education providers who have knowledge or expertise in family strengthening activities. Information about organizations providing marriage enrichment activities can be found on the ORR web site at: http://www.acf.dhhs.gov/programs/orr/programs, or applicants may contact Irving Jones, Division of Community Resettlement, ORR, Administration for Children and Families (ACF), (202) 401-6533; E-mail: ijones@acf.hhs.gov.

ORR expects that approximately 90 percent of the funding will be expended at the local level, and that the applicant should budget for no more than one full-time staff person at the national level. Through this cooperative agreement, ORR intends to review and approve: (1) A plan for sub-grants, including plans for geographical distribution and technical assistance; (2) a plan for implementation, which should include the building of coalitions and client outreach; (3) all written materials developed and proposed for dissemination; (4) timelines and major program outcomes; and (5) a reporting format that outlines the difficulties refugee couples face, a description of the proposed intervention and the impact of the intervention on the refugee family.

Category 1—Allowable Activities—Projects may be designed to translate and adapt contemporary American approaches to traditional refugee practices and cultural settings, in coalition with marriage enrichment organizations, at both the national and local levels. ORR supports creative and unique approaches that address the needs of refugee families as well as the development of strategies for partnerships with marriage enrichment organizations. Applicants may propose activities that include, but are not limited to, the following:

• Award 10-20 sub-grants to local organizations to conduct marriage enrichment activities with refugees.

• Develop culturally and linguistically appropriate marriage enrichment and family strengthening materials to be used in training local refugee communities.

• Assist sub-grantees, in coalition with marriage enrichment organizations, to provide culturally and linguistically appropriate communication and conflict resolution skills training to refugee couples to help them improve their relationships and enrich their marriages.

• Assist sub-grantees to train refugee couples to act as mentors in their ethnic community. Newly married refugee couples should be considered a priority group for mentoring.

• Conduct local workshops on marriage and relationship skills for refugees that may include coping with the customs of a new community, conflict resolution, financial management and job and career advancement.

• Conduct customized pre-marital education and marriage enrichment programs for refugee youth and young adults.

• Develop refugee resource centers to help enhance the relationships in refugee families.

• Teach effective child-rearing techniques, including positive and culturally-acceptable child disciplinary practices and parenting skills for refugees.

• Provide information about U.S. cultural and legal issues as they affect gender, parenting roles and intergenerational family relationships.

Category 1 Review Criteria—Category 1 applications will be reviewed and rated based on the following criteria:

1. Organizational Profiles (30 points)—Application demonstrates an extensive knowledge of and comprehensive experience in working with refugees through reception and placement services and ongoing resettlement activities. Application includes letters of support that demonstrate the organization's strong relationship with the local refugee resettlement community; experience in providing refugee resettlement services; and relationship with marriage enrichment programs. Individual staff position descriptions, volunteer positions, consultants and coalition organizations are appropriate to the goals of the project. The administrative and management features of the project, including a monitoring and technical assistance plan for program and fiscal activities, are adequately described. The applicant provides a copy of its most recent audit report.

2. Objectives and Need for Assistance (20 points)—Applicant (a) fully and clearly describes the need for activities to support and strengthen refugee marriages, (b) demonstrates a comprehensive understanding of the refugees' experiences in resettlement services in local U.S. communities and demonstrates access to agencies that provide reception and placement services (c) clearly understands the marriage enrichment concept and can effectively integrate it with refugee resettlement activities, and (d) proposes establishing a coalition with marriage enrichment organizations at the local level for purposes of providing marriage education services to the refugee community.

3. Approach (20 points)—The proposed approach for the cooperative agreement and awarding of sub-grants is fully and clearly described. The strategy and plan demonstrate the ability to achieve the proposed results. The proposed communities and the resident refugee groups along with strategies for recruiting them into the program are described in detail. Timeframes are reasonable and feasible. The proposed activities are likely to lead to the desired results, i.e., healthy marriages among refugee communities.

4. Results or Benefits Expected (20 points)—Applicant describes outcomes that are consistent with the goals of marriage enrichment programs for refugee families. The outcomes are likely to be reached through the activities proposed. Proposed outcomes are measurable and achievable within the grant project period.

5. Budget and Budget Justification (10 points)—The budget and narrative justification are reasonable, clearly presented, and cost-effective in relation to the proposed activities and anticipated results. Approximately 90 percent of the funding is expended at the local level. The budget contains no more than one full-time staff position at the national level.

Category 2—Refugee Marriage Enrichment

Category 2 Purpose and Objectives

ORR is interested in funding, under cooperative agreements, two to four public or private non-profit agencies with extensive knowledge of, and comprehensive experience in, working with refugee community-based organizations. Through this category, ORR plans to meet the needs of more targeted populations of refugees who may have been in the country for a longer period of time. To reach this population and to ensure that the services provided are culturally and linguistically appropriate, the applicant should have an ongoing relationship with and the trust and respect of refugees within the community. Unlike Category 1, Category 2 applicants need not be conducting ongoing reception and placement activities. The successful applicants for Category 2 will provide funds and training to five to ten agencies including faith-based and community organizations, which may include (1) local affiliates of the applicant or affiliates of other non-applicant refugee national organizations with whom the applicant has formed a collaboration; (2) independent refugee organizations, or (3) entities that have demonstrated an ability to work closely with refugees. The successful applicants will provide financial and program support to enable families within the refugee community to receive marriage enrichment training. The marriage enrichment activities proposed in this announcement may be outside the experience of many refugees and may be difficult to implement without a well-established relationship between the refugees and the grantee. Applicants should also demonstrate a relationship to marriage enrichment resources.

ORR is interested in projects which can address refugee needs for cultural and linguistic access to family enrichment services and this is often best achieved through partnerships with grass-roots organizations, including refugee community-based organizations or faith-based organizations. The successful applicants will, through grassroots organizations, provide culturally sensitive marriage enrichment to refugee couples.

Applicants should describe their efforts to create collaborations with marriage education providers and knowledge or expertise in marriage strengthening activities. Information about organizations providing marriage enrichment activities can be found on the ORR web site at: www.acf.dhhs.gov/programs/orr/programs, or by contacting Irving Jones, Division of Community Resettlement, ORR, Administration for Children and Families (ACF), (202) 401-6533; E-mail: ijones@acf.hhs.gov.

ORR expects that approximately 90 percent of the funding will be expended at the local level, and that the applicant should budget for no more than one full-time staff person at the national level. Through this cooperative agreement, ORR intends to review and approve: (1) A plan for sub-grants, including plans for geographical distribution and technical assistance; (2) a plan for implementation, which should include the building of coalitions and client outreach; (3) all written materials developed and proposed for dissemination; (4) timelines and major program outcomes; and (5) a reporting format that outlines the difficulties refugee couples face, a description of the proposed intervention and the impact of the intervention on the refugee family.

Category 2 Allowable Activities—ORR is interested in the preservation of refugee families and in ensuring their long-term stability and self-sufficiency. ORR supports creative and unique approaches that address the needs of refugee families as well as the development of strategies for partnerships with marriage enrichment organizations. These projects may be designed to translate and adapt contemporary American approaches to traditional practices and cultural settings. Applicants may propose activities that include, but are not limited to, the following:

• Award 5—10 sub-grants to local organizations to conduct marriage enrichment activities for refugees.

• Develop culturally and linguistically appropriate marriage enrichment and family strengthening materials to be used in training local refugee communities.

• Assist sub-grantees, in coalition with marriage enrichment organizations, to provide culturally and linguistically appropriate communication and conflict resolution skills training to refugee couples in specific refugee ethnic communities to help them improve their relationships and enrich their marriages.

• Assist sub-grantees to train refugee couples to act as mentors in their ethnic community. Newly married refugee couples should be considered a priority.

• Conduct local workshops on marriage and relationship skills that may include coping with the customs of a new community, conflict resolution, financial management, and job and career advancement for refugees.

• Conduct customized premarital education and marriage enrichment programs for refugee youth and young adults.

• Develop refugee resource centers to help enhance the relationships in refugee families.

• Teach effective child-rearing techniques, including positive and culturally-acceptable child disciplinary practices and parenting skills for refugees.

• Provide information about U.S. cultural and legal issues as they affect gender, parenting roles, and intergenerational family relationships for refugees.

The successful application will demonstrate extensive knowledge of, and comprehensive experience working with, refugee communities in providing services or access to services to refugees. The successful application also will demonstrate knowledge of marriage enrichment organizations, both national and in the local communities of sub-grantees.

Category 2 Review Criteria—Category 2 applications will be reviewed and rated based on the following criteria:

1. Organizational Profiles (30 points)—Application demonstrates an extensive knowledge of and comprehensive experience working with local entities, including faith-based and community organizations. Application includes letters of support that demonstrate the organization's strong relationship with the local refugee community groups and relationship with marriage enrichment programs. Individual staff position descriptions, volunteer positions, consultants and coalition organizations are appropriate to the goals of the project. The administrative and management features of the project, including a monitoring and technical assistance plan for program and fiscal activities, are adequately described. The applicant provides a copy of its most recent audit report.

2. Objectives and Need for Assistance (20 points)—Applicant (a) fully and clearly describes the need for activities to support and strengthen refugee marriages, (b) demonstrates a comprehensive understanding of the refugee experience in local U.S. communities and demonstrates access to agencies that have relationships with refugees, including faith-based and community organizations, (c) clearly understands the marriage enrichment concept and can effectively integrate it with the activities of local refugee community-based organizations, and (d) proposes establishing a coalition with marriage enrichment organizations at the local level for purposes of providing marriage education services to the refugee community.

3. Approach (20 points)—The proposed approach for the cooperative agreement and awarding of sub-grants is fully and clearly described. The strategy and plan demonstrate the ability to achieve the proposed results. The proposed communities and the resident refugee groups along with strategies for recruiting them into the program are described in detail. Timeframes are reasonable and feasible. The proposed activities are likely to lead to the desired results, i.e., healthy families among refugee communities.

4. Results or Benefits Expected (20 points)—Applicant describes outcomes that are consistent with the goals of marriage enrichment programs for refugee families. The outcomes are likely to be reached through the proposed activities. Proposed outcomes are measurable and achievable within the grant project.

5. Budget and Budget Justification (10 points)—The budget and narrative justification are reasonable, clearly presented, and cost-effective in relation to the proposed activities and anticipated results. Approximately 90 percent of the funding is expended at the local level. The budget contains no more than one FTE at the national level.

Category 3—Refugee Family Enrichment Projects for Elderly and Youth

Category 3 Purpose and Objectives: ORR is interested in funding 20 or more public or private agencies, including faith-based or community organizations to aid the elderly in accessing appropriate services and to work with youth to promote healthy development. Programs should focus on unmet needs and not duplicate or supplant programs available under any other Federal source of funding.

The successful applicant must demonstrate extensive knowledge of and comprehensive experience in working with refugee communities in providing specialized services to the youth and elderly and promoting access to mainstream services for refugees.

The specific services proposed may be as diverse as the refugee populations and the resettlement communities themselves. Proposed activities and services should be planned in conjunction with mainstream service providers and should provide linkages to these services. ORR is particularly interested in projects that are planned and implemented through coalitions with community-based organizations and local service providers. Such projects would address refugee needs for cultural and linguistic access to services, and would work with their refugee community members to help the elderly to access appropriate services, or with youth, to promote healthy development and adjustment.

Category 3 Allowable Activities—ORR is interested in applications in which an applicant addresses, based on an analysis of service needs and available resources, the difficulties which refugee elderly and youth face. The goals and expected outcomes of activities should be clearly stated and should respond to the particular needs of the elderly and youth in refugee families. The application should clearly outline how the agency will accomplish the goals and how the proposed activity fits into the existing network of services.

An application may include activities for youth, the elderly, or a combination thereof. ORR seeks to support local communities in finding innovative approaches that fit the unique needs of families in different communities. Projects may be designed to adapt contemporary American approaches to traditional practices and cultural settings. Applicants may propose activities that include, but are not limited to, the following:

Elderly

• Develop or implement programs or provide linkages to existing local programs that enable older refugees to live independently as long as possible.

• Provide services that meet the needs of older refugees, such as outreach, information, referrals, follow-up, nutrition programs (both congregate and home delivered), and transportation to senior centers or medical appointments.

• Conduct outreach to locate and inform elderly refugees of the existence of services in their community.

• Provide transportation services.

• Conduct case management.

• Provide services and/or information and referral to appropriate services that offer in-home care, adult day care, institutionalized care, and State Nursing Home Ombudsmen.

• Offer programs or provide linkages to existing programs that prevent or discourage the abuse of elderly refugees.

• Offer English tutoring or home-based English language training for homebound refugees.

• Provide employment support services, especially with agencies involved with the Older American Act, Title V Senior Employment Programs.

• Provide linkages to caregiver programs.

• Help elderly become naturalized.

Youth

• Conduct workshops for parents and youth on dating and gender cultural norms in the U.S.

• Help students negotiate the school system, familiarizing them with the school rules and fostering better communication between youth, administrators, counselors, mentors and tutors.

• Support or foster parental outreach programs that involve refugee parents in their children's education to help them understand school life.

• Provide youth employment support services.

• Provide after-school tutorials focused on helping students understand and complete assignments.

• Conduct programs that encourage high school completion and full participation in school activities.

• Conduct after-school activities that foster engagement in constructive activities.

• Conduct cognitive enrichment programs to bridge the gap between refugee students' intellectual abilities and the elements of school and curriculum that are culture-based.

Category 3 Review Criteria—Category 3 applications will be reviewed and rated based on the following criteria:

1. Organizational Profiles (25 points)—Application demonstrates a history, in-depth experience with, and access to, local refugee communities. Individual staff position descriptions, volunteer positions, consultants and coalition organizations are appropriate to the goals of the project. Application includes letters of support that demonstrate the organization's ability to accomplish, with appropriate partnerships with community organizations, the purpose and objectives of the application. The administrative and management features of the project, including a monitoring and technical assistance plan for program and fiscal activities, are adequately described. The applicant provides a copy of its most recent audit report.

2. Objectives and Need for Assistance (20 points)—The application clearly describes the youth or elderly refugees' physical, economic, social, financial, institutional and/or other issues requiring a solution. The need for assistance must be demonstrated and the objectives of the project must be clearly stated. The application clearly describes how funding through this program will meet those needs.

3. Results or Benefits Expected (20 points)—The applicant fully and clearly describes the results and benefits to be achieved. The applicant identifies how improvement will be measured on key indicators for the well-being of refugee elderly and youth and provides milestones indicating progress. Proposed outcomes are tangible and achievable within the grant project period and the proposed monitoring and information collection are adequately planned.

4. Approach (20 points)—The strategy and plan are likely to achieve the proposed results and the proposed activities and timeframes are reasonable and feasible. The proposed activities focus on unmet needs and do not duplicate or supplant programs available under any other Federal source of funding. The plan describes in detail how the proposed activities will be accomplished as well as the potential for the project to have a positive impact on the quality of life for refugee elderly and youth and communities by (1) improving refugees' abilities to access services, providing mutual assistance and creating services where they are not available and (2) instituting change among service providers to make these services more accessible.

5. Budget and Budget Justification (15 points)—The budget and narrative justification are reasonable in relation to the proposed activities and anticipated results. The budget narrative provides justification in relation to the proposed activities and anticipated outcomes.

Part II: The Review Process

Intergovernmental Review—This program is covered under Executive Order 12372, “Intergovernmental Review of Federal Programs,” and 45 CFR Part 100, “Intergovernmental Review of Department of Health and Human Services Programs and Activities.” Under the Order, States may design their own processes for reviewing and commenting on proposed Federal assistance under covered programs.

* All States and Territories except Alabama, Alaska, Arizona, Colorado, Connecticut, Hawaii, Idaho, Indiana, Kansas, Louisiana, Massachusetts, Minnesota, Montana, Nebraska, New Jersey, Ohio, Oklahoma, Oregon, Pennsylvania, South Dakota, Tennessee, Vermont, Virginia, Washington, Wyoming, and Palau have elected not to participate in the Executive Order process. Applicants from these twenty-seven jurisdictions need take no action regarding E.O. 12372. Applicants for projects to be administered by federally-recognized Indian Tribes are also exempt from the requirements of E.O. 12372. Applicants should contact their Single-Points-of-Contact (SPOC) as soon as possible to alert them of the prospective applications and receive any necessary instructions. Applicants from participating jurisdictions must submit any required material to the SPOCs as soon as possible so that the program office can obtain and review SPOC comments as part of the award process. The applicant must submit all required materials, if any, to the SPOC and indicate the date of this submittal (the date of contact) on the Standard Form 424, item 16a.

Under 45 CFR 100.8(a)(2), a SPOC has 30 days from the application deadline to comment on proposed new or competing continuation awards. SPOCs are encouraged to eliminate the submission of routine endorsements as official recommendations. Additionally, SPOCs are requested to clearly differentiate between mere advisory comments and those official State process recommendations that may trigger the “accommodate or explain” rule.

When comments are submitted directly to ACF, they should be addressed to: Grants Management Officer, U.S. Department of Health and Human Services, Administration for Children and Families, Office of Refugee Resettlement, 370 L'Enfant Promenade SW., 4th floor, Washington DC, 20447.

A list of the Single Points of Contact for each participating State and Territory can be found on the web at: http://www.whitehouse.gov/omb/grants/spoc.html.

Initial ACF Screening—Each application submitted under this program announcement will undergo a pre-review to determine that (1) the application was received by the closing date and submitted in accordance with the instructions in this announcement; and (2) the applicant is eligible for funding.

Competitive Review and Evaluation Criteria—Applications which pass the initial ACF screening will be evaluated and rated by an independent review panel on the basis of evaluation criteria specified in Part I. The evaluation criteria were designed to assess the quality of a proposed project and to determine the likelihood of its success. The evaluation criteria are closely related and are considered as a whole in judging the overall quality of an application. Points are awarded only to applications that are responsive to the evaluation criteria within the context of this program announcement.

Part III: The Application

In order to be considered for a grant under this program announcement, an application must be submitted on the forms supplied and in the manner prescribed by ACF. Selected elements of the ACF Uniform Project Description (UPD) relevant to this program announcement are attached as appendix A.

Application Forms—Applicants requesting financial assistance under this announcement must file the Standard Form (SF) 424, Application for Federal Assistance; SF 424A, Budget Information—Non-Construction Programs; SF 424B, Assurances—Non-Construction Programs. The forms may be reproduced for use in submitting applications. Application materials including forms and instructions are also available from the Contact named in the preamble of this announcement.

Application Submission and Deadlines—An application with an original signature and two clearly identified copies are required. Applicants must clearly indicate on the SF 424 the grant announcement number under which the application is submitted.

Applicants must ensure that a legibly dated U.S. Postal Service postmark or a legibly dated, machine produced postmark of a commercial mail service is affixed to the envelope/package containing the application(s). To be acceptable as proof of timely mailing, a postmark from a commercial mail service must include the logo/emblem of the commercial mail service company and must reflect the date the package was received by the commercial mail service company from the applicant. Private Metered postmarks shall not be acceptable as proof of timely mailing. (Applicants are cautioned that express/overnight mail services do not always deliver as agreed.)

Applications hand carried by applicants, applicant couriers, or by other representatives of the applicant shall be considered as meeting an announced deadline if they are received on or before the deadline date, between the hours of 8 a.m. and 4:30 p.m., EST, at the U.S. Department of Health and Human Services, Administration for Children and Families, Office of Grants Management, Division of Discretionary Grants, 370 L'Enfant Promenade SW., 4th Floor, Washington, DC 20447 between Monday and Friday (excluding Federal holidays). The address must appear on the envelope/package containing the application with the note “Attention: Daphne Weeden.” (Applicants are cautioned that express/overnight mail services do not always deliver as agreed.)

ACF cannot accommodate transmission of applications by fax or through other electronic media. Therefore, applications transmitted to ACF electronically will not be accepted regardless of date or time of submission and time of receipt.

Late applications: Applications that do not meet the criteria above are considered late applications. ACF will notify each late applicant that its application will not be considered in the current competition.

Extension of deadlines: ACF may extend application deadlines when circumstances such as acts of God (e.g. floods, hurricanes, etc.) occur, or when there are widespread disruptions of mail service. Determinations to extend or waive deadline requirements rest with the Chief Grants Management Officer.

For Further Information on Application Deadlines Contact: Grants Management Officer, Administration for Children and Families, Office of Grants Management, Division of Discretionary Grants, 370 L'Enfant Promenade SW., 4th Floor, West Wing, Washington, DC 20447, Telephone: (202) 401-4577.

Certifications, Assurances, and Disclosure Required for Non-Construction Programs—Applicants requesting financial assistance for non-construction projects must file the Standard Form 424B, “Assurances: Non-Construction Programs.” Applicants must sign and return the Standard Form 424B with their applications. Applicants must provide a certification regarding lobbying when applying for an award in excess of $100,000. Applicants must sign and return the certification with their applications.

Applicants must disclose lobbying activities on the Standard Form LLL when applying for an award in excess of $100,000. Applicants who have used non-Federal funds for lobbying activities in connection with receiving assistance under this announcement shall complete a disclosure form to report lobbying. Applicants must sign and return the disclosure form, if applicable, with their applications.

Applicants must make the appropriate certification of their compliance with the Drug Free Workplace Act of 1988. By signing and submitting the application, the applicant is providing the certification and need not mail back the certification with the applications. Applicants must make the appropriate certification that they are not presently debarred, suspended or otherwise ineligible for an award. By signing and submitting the application, the applicant is providing the certification need not mail back the certification with the applications.

Applicants must make the appropriate certification of their compliance with the Drug Free Workplace Act of 1988. By signing and submitting the application, the applicant is providing the certification and need not mail back the certification with the applications. Applicants must make the appropriate certification that they are not presently debarred, suspended or otherwise ineligible for an award. By signing and submitting the application, the applicant is providing the certification need not mail back the certification with the applications.

General Instructions for Preparing a Full Project Description—The project description provides a major means by which an application is evaluated and ranked to compete with other applications for available assistance. The project description should be concise and complete and should address the activity for which Federal funds are being requested. Supporting documents should be included where they can present information clearly and succinctly. Applicants are encouraged to provide information on their organizational structure, staff, related experience, and other information they consider relevant. Awarding offices use this and other information to determine whether the applicant has the capability and resources necessary to carry out the proposed project. It is important, therefore, that this information be included in the application. However, in the narrative the applicant must distinguish between resources directly related to the proposed project from those that will not be used in support of the specific project for which funds are requested. Please refer to the UPD sections in the appendix.

Length of Applications—Each application narrative should not exceed 20 pages in a double spaced 12-pitch font. Attachments and appendices should not exceed 25 pages and should be used only to provide supporting documentation such as administration charts, position descriptions, resumes, and letters of intent or partnership agreements. A table of contents and an executive summary should be included but will not count in the page limitations. Each page should be numbered sequentially, including the attachments and appendices. This limitation of 20 pages should be considered as a maximum, and not necessarily a goal. Application forms are not to be counted in the page limit.

Please do not include books or videotapes as they are not easily reproduced and are, therefore, inaccessible to the reviewers.

Part IV: Post-Award

Applicable Regulations—Applicable DHHS regulations can be found in 45 CFR part 74 or 92.

Treatment of Program Income—Program income from activities funded under this program may be retained by the recipient and added to the funds committed to the project, and used to further program objectives.

Reporting Requirements

All required reports must be submitted in a timely manner. Program progress reports must be submitted quarterly. A grantee is allowed 30 days to submit the report following the end of the period. Recommended formats for the reports will be provided. The final report is due 90 days after the end of the project. Grantees are required to file the Financial Status Report (SF-269) semi-annually.

Funds awarded must be accounted for, and reported under the distinct grant number ascribed. Although ORR does not expect the proposed projects to include evaluation activities, it does expect grantees to maintain adequate records to track and report on project outcomes and expenditures. The official receipt point for all reports and correspondence is the Grants Management Officer, Administration for Children and Families/Office of Grants Management, Division of Discretionary Grants, 370 L'Enfant Promenade SW., 4th Floor West, Washington, DC 20447, Telephone: (202) 401-4577. An original and one copy of each report must be submitted within 30 days of the end of each reporting period directly to the Office of Grants Management.

A Final Financial and Program Report will be due 90 days after the project expiration date or termination of Federal budget support.

Appendix A—Uniform Project Description OMB No. 0970-0139

The project description is approved under OMB control number 0970-0139 which expires 12/31/03.

Part I: The Project Description Overview

Purpose

The project description provides a major means by which an application is evaluated and ranked to compete with other applications for available assistance. The project description should be concise and complete and should address the activity for which Federal funds are being requested. Supporting documents should be included where they can present information clearly and succinctly. In preparing your project description, all information requested through each specific evaluation criteria should be provided. Awarding offices use this and other information in making their funding recommendations. It is important, therefore, that this information be included in the application.

General Instructions

ACF is particularly interested in specific factual information and statements of measurable goals in quantitative terms. Project descriptions are evaluated on the basis of substance, not length. Extensive exhibits are not required. Cross-referencing should be used rather than repetition. Supporting information concerning activities that will not be directly funded by the grant or information that does not directly pertain to an integral part of the grant funded activity should be placed in an appendix.

Pages should be numbered and a table of contents should be included for easy reference.

Part II: General Instructions for Preparing a Full Project Description

Introduction

Applicants required to submit a full project description shall prepare the project description statement in accordance with the following instructions and the specified evaluation criteria. The instructions give a broad overview of what your project description should include while the evaluation criteria expands and clarifies more program-specific information that is needed.

Project Summary/Abstract

Provide a summary of the project description (a page or less) with reference to the funding request.

Objectives and Need for Assistance

Clearly identify the physical, economic, social, financial, institutional, and/or other problem(s) requiring a solution. The need for assistance must be demonstrated and the principal and subordinate objectives of the project must be clearly stated; supporting documentation, such as letters of support and testimonials from concerned interests other than the applicant, may be included. Any relevant data based on planning studies should be included or referred to in the endnotes/footnotes. Incorporate demographic data and participant/beneficiary information, as needed. In developing the project description, the applicant may volunteer or be requested to provide information on the total range of projects currently being conducted and supported (or to be initiated), some of which may be outside the scope of the program announcement.

Results or Benefits Expected

Identify the results and benefits to be derived. For example, when applying for a grant to establish a marriage enrichment program, describe who will access program services, and how those services will benefit refugees.

Approach

Outline a plan of action that describes the scope and detail of how the proposed work will be accomplished. Account for all functions or activities identified in the application. Cite factors that might accelerate or decelerate the work and state your reason for taking the proposed approach rather than others. Describe any unusual features of the project such as design or technological innovations, reductions in cost or time, or extraordinary social and community involvement.

Provide quantitative monthly or quarterly projections of the accomplishments to be achieved for each function or activity in such terms as the number of people to be served and the number of activities to be accomplished. For example, when applying for a grant to establish a marriage enrichment program, describe the number of refugee couples expected to access marriage enrichment services for the quarter. When accomplishments cannot be quantified by activity or function, list them in chronological order to show the schedule of accomplishments and their target dates.

If any data is to be collected, maintained, and/or disseminated, clearance may be required from the U.S. Office of Management and Budget (OMB). This clearance pertains to any “collection of information that is conducted or sponsored by ACF.”

List organizations, cooperating entities, consultants, or other key individuals who will work on the project along with a short description of the nature of their effort or contribution.

Staff and Position Data

Provide a biographical sketch for each key person appointed and a job description for each vacant key position. A biographical sketch will also be required for new key staff as appointed.

Organizational Profiles

Provide information on the applicant organization(s) and cooperating partners such as organizational charts, financial statements, audit reports or statements from CPAs/Licensed Public Accountants, Employer Identification Numbers, names of bond carriers, contact persons and telephone numbers, child care licenses and other documentation of professional accreditation, information on compliance with Federal/State/local government standards, documentation of experience in the program area, and other pertinent information. Any non-profit organization submitting an application must submit proof of its non-profit status in its application at the time of submission.

The non-profit agency can accomplish this by providing a copy of the applicant's listing in the Internal Revenue Service's (IRS) most recent list of tax-exempt organizations described in Section 501(c)(3) of the IRS code, or by providing a copy of the currently valid IRS tax exemption certificate, or by providing a copy of the articles of incorporation bearing the seal of the State in which the corporation or association is domiciled.

Third-Party Agreements

Include written agreements between grantees and subgrantees or subcontractors or other cooperating entities. These agreements must detail scope of work to be performed, work schedules, remuneration, and other terms and conditions that structure or define the relationship.

Letters of Support

Provide statements from community, public and commercial leaders that support the project proposed for funding. All submissions should be included in the application OR by application deadline.

Budget and Budget Justification

Provide line item detail and detailed calculations for each budget object class identified on the Budget Information form. Detailed calculations must include estimation methods, quantities, unit costs, and other similar quantitative detail sufficient for the calculation to be duplicated. The detailed budget must also include a breakout by the funding sources identified in Block 15 of the SF-424.

Provide a narrative budget justification that describes how the categorical costs are derived. Discuss the necessity, reasonableness, and allocability of the proposed costs.

General

The following guidelines are for preparing the budget and budget justification. Both Federal and non-Federal resources shall be detailed and justified in the budget and narrative justification. For purposes of preparing the budget and budget justification, “Federal resources” refers only to the ACF grant for which you are applying. Non-Federal resources are all other Federal and non-Federal resources. It is suggested that budget amounts and computations be presented in a columnar format: first column, object class categories; second column, Federal budget; next column(s), non-Federal budget(s), and last column, total budget. The budget justification should be a narrative.

Personnel

Description: Costs of employee salaries and wages.

Justification: Identify the project director or principal investigator, if known. For each staff person, provide the title, time commitment to the project (in months), time commitment to the project (as a percentage or full-time equivalent), annual salary, grant salary, wage rates, etc. Do not include the costs of consultants or personnel costs of delegate agencies or of specific project(s) or businesses to be financed by the applicant.

Fringe Benefits

Description: Costs of employee fringe benefits unless treated as part of an approved indirect cost rate.

Justification: Provide a breakdown of the amounts and percentages that comprise fringe benefit costs such as health insurance, FICA, retirement insurance, taxes, etc.

Travel

Description: Costs of project-related travel by employees of the applicant organization (does not include costs of consultant travel).

Justification: For each trip, show the total number of traveler(s), travel destination, duration of trip, per diem, mileage allowances, if privately owned vehicles will be used, and other transportation costs and subsistence allowances. Travel costs for key staff to attend ACF-sponsored workshops should be detailed in the budget.

Equipment

Description: “Equipment” means an article of nonexpendable, tangible personal property having a useful life of more than one year and an acquisition cost which equals or exceeds the lesser of (a) the capitalization level established by the organization for the financial statement purposes, or (b) $5,000. (Note: Acquisition cost means the net invoice unit price of an item of equipment, including the cost of any modifications, attachments, accessories, or auxiliary apparatus necessary to make it usable for the purpose for which it is acquired. Ancillary charges, such as taxes, duty, protective in-transit insurance, freight, and installation shall be included in or excluded from acquisition cost in accordance with the organization's regular written accounting practices.)

Justification: For each type of equipment requested, provide a description of the equipment, the cost per unit, the number of units, the total cost, and a plan for use on the project, as well as use or disposal of the equipment after the project ends. An applicant organization that uses its own definition for equipment should provide a copy of its policy or section of its policy which includes the equipment definition.

Supplies

Description: Costs of all tangible personal property other than that included under the Equipment category.

Justification: Specify general categories of supplies and their costs. Show computations and provide other information that supports the amount requested.

Contractual

Description: Costs of all contracts for services and goods except for those which belong under other categories such as equipment, supplies, construction, etc. Third-party evaluation contracts (if applicable) and contracts with secondary recipient organizations, including delegate agencies and specific project(s) or businesses to be financed by the applicant, should be included under this category.

Justification: All procurement transactions shall be conducted in a manner to provide, to the maximum extent practical, open and free competition. Recipients and sub-recipients, other than States that are required to use part 92 procedures, must justify any anticipated procurement action that is expected to be awarded without competition and exceed the simplified acquisition threshold fixed at 41 U.S.C. 403(11) currently set at $100,000. Recipients might be required to make available to ACF pre-award review and procurement documents, such as request for proposals or invitations for bids, independent cost estimates, etc.

Note: Whenever the applicant intends to delegate part of the project to another agency, the applicant must provide a detailed budget and budget narrative for each delegate agency, by agency title, along with the required supporting information referred to in these instructions.

Other

Enter the total of all other costs. Such costs, where applicable and appropriate, may include but are not limited to insurance, food, medical and dental costs (non-contractual), professional services costs, space and equipment rentals, printing and publication, computer use, training costs, such as tuition and stipends, staff development costs, and administrative costs.

Justification: Provide computations, a narrative description and a justification for each cost under this category.

Indirect Charges

Description: Total amount of indirect costs. This category should be used only when the applicant currently has an indirect cost rate approved by the Department of Health and Human Services (HHS) or another cognizant Federal agency.

Justification: An applicant that will charge indirect costs to the grant must enclose a copy of the current rate agreement. If the applicant organization is in the process of initially developing or renegotiating a rate, it should immediately upon notification that an award will be made, develop a tentative indirect cost rate proposal based on its most recently completed fiscal year in accordance with the principles set forth in the cognizant agency's guidelines for establishing indirect cost rates, and submit it to the cognizant agency. Applicants awaiting approval of their indirect cost proposals may also request indirect costs. It should be noted that when an indirect cost rate is requested, those costs included in the indirect cost pool should not also be charged as direct costs to the grant. Also, if the applicant is requesting a rate which is less than what is allowed under the program, the authorized representative of the applicant organization must submit a signed acknowledgment that the applicant is accepting a lower rate than allowed.

Program Income

Description: The estimated amount of income, if any, expected to be generated from this project.

Justification: Describe the nature, source and anticipated use of program income in the budget or refer to the pages in the application that contain this information.

Non-Federal Resources

Description: Amounts of non-Federal resources that will be used to support the project as identified in Block 15 of the SF-424.

Justification: The firm commitment of these resources must be documented and submitted with the application in order to be given credit in the review process. A detailed budget must be prepared for each funding source.

Total Direct Charges, Total Indirect Charges, Total Project Costs.

[Self-explanatory]

Dated: June 5, 2003.
Nguyen Van Hanh,
Director, Office of Refugee Resettlement.

[FR Doc. 03-14593 Filed 6-9-03; 8:45 am]

BILLING CODE 4184-01-P